DEPARTMENT OF TRANSPORTATION

Federal Highway Administration

[Docket No. FHWA-3-16255 ]

Agency Information Collection Activities; Request for Comments; Renewed Approval of Information Collection; State Right-of-Way Operations Manuals, OMB Control Number: 2125-0586

AGENCY: Federal Highway Administration (FHWA), DOT.

ACTION: Notice and request for comments.

SUMMARY: The FHWA invites public comments about our intention to request the Office of Management and Budget's (OMB) approval to renew an information collection. The collection involves State Departments of Transportation (STD) providing their Right-of-Way Operations Manuals to FHWA. The information to be collected will be used to certify that the manuals are representative of the states' right-of-way procedures and the information is necessary to comply with the FHWA Final Rule for the Right-of-Way program on December 21, 1999. We are required by the Paperwork Reduction Act of 1995 to publish this notice in the Federal Register.

DATES: Please submit comments by December 8, 2003.

ADDRESSES: You may submit comments identified by DOT DMS Docket Number FHWA-3-16255 by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590.

• Hand Delivery: Room PL-401 on the plaza level of the Nassif Building, 400 Seventh Street, SW., Washington, DC, between 9 am and 5 pm, Monday through Friday, except Federal Holidays.

Docket: For access to the docket to read background documents or comments received, go to http://dms.dot.gov at any time or to Room PL-401 on the plaza level of the Nassif Building, 400 Seventh Street, SW., Washington, DC, between 9 a.m. and 5 p.m., Monday through Friday, except Federal Holidays.

You are asked to comment on any aspect of this information collection, including: (1) Whether the proposed collection is necessary for the FHWA's performance; (2) the accuracy of the estimated burdens; (3) ways for the FHWA to enhance the quality, usefulness, and clarity of the collected information; and (4) ways that the burdens could be minimized, including the use of electronic technology, without reducing the quality of the collected information.

FOR FURTHER INFORMATION CONTACT: Wayne Coil, (202) 366-2038, Office of Real Estate Services, Federal Highway Administration, Department of Transportation, 400 Seventh Street, SW., Washington, DC 20590. Office hours are from 7:30 a.m. to 5 p.m., Monday through Friday, except Federal holidays.

SUPPLEMENTARY INFORMATION:

Title: State Right-of-Way Operations Manuals.

OMB Control No.: 2125-0586.

Background: The Federal Highway Administration (FHWA) issued a final rule for the Right-of-Way Program on December 21, 1999 (Federal Register Volume 64, Number 244, pages 71284-71297). This issuance was a comprehensive rewrite of rules governing the use of Federal-aid funds for right-of-way acquisition, property management, and project development. The regulation reduces Federal regulatory requirements and places primary responsibility for a number of approval actions at the state level. The rule states that states must certify at 5-year intervals that their State Right-of-Way Operations Manuals are representative of their procedures, or submit an updated manual. STDs are required to update their manuals to reflect changes in Federal requirements for programs administered under Title 23 U.S.C. These manuals reflect how the STD plans to perform real estate acquisition, property management, and maintain the integrity of the right-of-way for highway and related transportation systems. The State manuals may be submitted to FHWA electronically or they can be made available by postings on state Web sites.

Respondents: State Departments of Transportation (52 including the District of Columbia and Puerto Rico).

Frequency: Once initially, then States update their operations manuals for review.

Estimated Average Burden per Response: 75 hours per respondent.

Estimated Total Annual Burden Hours: 75 hours for each of the 52 State Departments of Transportation. The total is rounded to 4,000 burden hours annually.

Issued on: October 2, 2003.
James R. Kabel,
Chief, Management Programs and Analysis Division.

[FR Doc. 03-25520 Filed 10-7-03; 8:45 am]

BILLING CODE 4910-22-P